DEPARTMENT OF COMMERCE

International Trade Administration

[A-475-818]

Certain Pasta from Italy: Notice of Extension of Final Results of Antidumping Duty Changed Circumstances Review

AGENCY: Import Administration, International Trade Administration, Department of Commerce.

EFFECTIVE DATE: December 31, 2008.

FOR FURTHER INFORMATION CONTACT: Eric B. Greynolds, AD/CVD Operations, Office 3, Import Administration, International Trade Administration, U.S. Department of Commerce, Room 4014, 14th Street and Constitution Ave., NW, Washington, DC 20230, telephone: (202) 482-6071.

SUPPLEMENTARY INFORMATION:

Background

On November 19, 2007, the Department of Commerce (the Department) published its notice of initiation of antidumping duty (AD) changed circumstances review (CCR). See Certain Pasta from Italy: Notice of Initiation of Antidumping Duty Changed Circumstances Review, 72 FR 65010 (November 19, 2007). On February 22, 2008, the Department published its notice of preliminary results of AD CCR and intent to reinstate the AD order. See Certain Pasta from Italy: Notice of Preliminary Results of Antidumping Duty Changed Circumstances Review and Intent to Reinstate the Antidumping Duty Order, 73 FR 9769 (February 22, 2008). On August 12, 2008, the Department extended the due date of the final results of the AD CCR until October 6, 2008. See Certain Pasta from Italy: Notice of Extension of Final Results of Antidumping Duty Changed Circumstances Review, 73 FR 46871 (August 12, 2008). On September 29, 2008, the Department placed on the record of the AD CCR press releases from the United States Attorney for the Western District of Missouri and the Securities and Exchange Commission (SEC) regarding the American Italian Pasta Company (AIPC). See the Memorandum to the File from Eric B. Greynolds, Program Manager, “Press Release from Office of the United States Attorney for the Western District of Missouri and the Securities and Exchange Commission Regarding the American Italian Pasta Company” (September 29, 2008), a public document on file in the Central Records Unit (CRU), room 1117 of the main Department building. On October 8, 2008, David M. Spooner, the Assistant Secretary for Import Administration, along with other officials from the Department met with an official from AIPC and counsel to Lensi/AIPC to discuss issues pertaining to the ongoing AD CCR. On October 10, 2008, the Department extended the due date of the final results of the AD CCR until December 5, 2008. See Certain Pasta from Italy: Notice of Extension of Final Results of Antidumping Duty Changed Circumstances Review, 73 FR 60239 (October 10, 2008). On October 17, 2008, Lensi/AIPC submitted comments regarding the press release issued by the SEC and the Office of the United States Attorney for the Western District of Missouri. On December 12, 2008, the Department extended the due date of the final results of the AD CCR until December 22, 2008. See Certain Pasta from Italy: Notice of Extension of Final Results of Antidumping Duty Change Circumstances Review, 73 FR 75671 (December 12, 2008).

Extension of Time Limit for Final Results

Under 19 CFR 351.216(e), the Department will issue the final results of a CCR within 270 days after the date on which the Department initiates the changed circumstances review. Currently, the final results of the AD CCR, which cover Lensi, a producer/exporter of pasta from Italy, and AIPC, Lensi's corporate parent and importer of subject merchandise produced by Lensi, are due by December 22, 2008. As explained above, the Department has placed certain information regarding Lensi on the record of the AD CCR. The Department finds that it requires additional time to review the new factual information contained in the October 17, 2008 submission of Lensi and AIPC. Therefore, in order to have sufficient time to review the new factual information placed on the record of the AD CCR, we are extending the due date of the final results of the AD CCR by 11 days in accordance with 19 CFR 351.302(b). Therefore, the final results of the AD CCR are now due no later than January 2, 2009.

This notice is issued and published in accordance with sections 751(b) and 777(i) of the Tariff Act of 1930, as amended.

Dated: December 19, 2008.
Stephen J. Claeys,
Deputy Assistant Secretary for Antidumping and Countervailing Duty Operations.

[FR Doc. E8-31145 Filed 12-30-08; 8:45 am]

BILLING CODE 3510-DS-S